DEPARTMENT OF AGRICULTURE

Agricultural Marketing Service

[Doc. No. AMS-PY-07-0101]

Notice of Request for an Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for an extension of, and revision to a currently approved information collection in support of the Regulations Governing the Voluntary Grading of Shell Eggs.

DATES: Comments received by November 13, 2007 will be considered.

Additional Information or Comments: Interested persons are invited to submit written comments on the Internet at http://www.regulations.gov or to David Bowden, Jr., Chief; Standards, Promotion & Technology Branch; Poultry Programs, AMS, U.S. Department of Agriculture; 1400 Independence Avenue, SW., Stop 0259; Washington, DC 20250-0259, (202) 690-3148. Comments should reference the docket number and the date and page number of this issue of the Federal Register and will be available for public inspection in the Office of the Docket Clerk, Poultry Programs, AMS, USDA, Room 3953-S, 1400 Independence Avenue, SW., Washington, DC 20250-0259 during regular business hours, or can be viewed at: http://www.regulations.gov.

SUPPLEMENTARY INFORMATION: Title: Regulations Governing the Voluntary Grading of Shell Eggs—7 CFR part 56.

OMB Number: 0581-0128.

Expiration Date of Approval: May 31, 2008.

Type of Request: Extension and revision of a currently approved information collection.

Abstract: The Agricultural Marketing Act of 1946 (60 Stat. 1087-1091, as amended; 7 U.S.C. 1621-1627) (AMA) directs and authorizes the Department of Agriculture (USDA) to develop standards of quality, grades, grading programs, and services which facilitate trading of agricultural products and assure consumers of quality products which are graded and identified under USDA programs.

To provide programs and services, section 203(h) of the AMA (7 U.S.C. 1622(h)) directs and authorizes the Secretary of Agriculture to inspect; certify and identify; and identify the grade, class, quality, quantity, and condition of agricultural products under such rules and regulations as the Secretary may prescribe, including assessment and collection of fees for the cost of the service.

The regulations in 7 CFR part 56 provide a voluntary program for grading shell eggs on the basis of U.S. standards, grades and weight classes. In addition, the shell egg industry and users of the products have requested development and provision of other types of voluntary services under these regulations; e.g., contract and specification acceptance services and certification of quantity. Voluntary grading service is available on a resident basis or on an as-needed bases. The AMA requires Agency costs be assessed and collected from respondents who request voluntary program services. Information provided during the request is used by the Agency to determine cost assessments.

The information collection requirements in this request are essential to carry out the intent of the AMA, to provide the respondents the type of service they request, and to administer the program. The information request requires personal data, such as name, type of business, address and description of service requested.

The information collected is used only by authorized representatives of USDA (AMS, Poultry Programs' national staff; regional directors and their staffs; Federal-State supervisors and their staffs; and resident Federal-State graders, which includes State agencies) to administer and to conduct and carry out requested grading services. The Agency is the primary user of the information. Information is also used by authorized State agencies under a cooperative agreement with AMS.

Estimate of Burden: Public reporting burden for this collection of information is estimated to average 0.238 hours per response.

Respondents: State or local governments, businesses or other for-profits, Federal agencies or employees, small businesses or organizations.

Estimated Number of Respondents: 630.

Estimated Total Annual Responses: 23,130.50.

Estimated Number of Responses per Respondent: 36.72.

Estimated Total Annual Burden on Respondents: 5,513.64 hours.

Copies of this information collection may be obtained from David Bowden, Jr., Chief, Standards, Promotion, & Technology Branch, at (202) 690-3148.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to: David Bowden, Jr., Chief, Standards, Promotion & Technology Branch; Poultry Programs, AMS, U.S. Department of Agriculture; 1400 Independence Avenue, SW., Stop 0259; Washington, DC 20250-0259. All comments received will be available for public inspection during regular business hours at the above address and may be viewed at http://www.regulations.gov.

All responses to this notice will be summarized and included in the request for OMB approval. All comments will become a matter of public record.

Dated: September 10, 2007.
Kenneth C. Clayton,
Acting Administrator, Agricultural Marketing Service.

[FR Doc. E7-18112 Filed 9-13-07; 8:45 am]

BILLING CODE 3410-02-P